DEPARTMENT OF EDUCATION

Notice Inviting Applications for Proprietary Institutions Under the Higher Education Emergency Relief Fund (HEERF), Section 314(a)(4); Coronavirus Response and Relief Supplemental Appropriations Act, 2021 (CRRSAA)

AGENCY: Office of Postsecondary Education, Department of Education.

ACTION: Notice.

SUMMARY: The Secretary is announcing the availability of new HEERF grant funding under section 314(a)(4) of the CRRSAA and inviting applications from eligible proprietary institutions listed on the Department's section 314(a)(1) allocation table to apply for funding in order for these institutions to make financial aid grants to students. This notice relates to the approved information collection under OMB control number XXXX-XXXX.

DATES:

Applications Available: January 15, 2021.

Deadline for Transmittal of Applications: Applications will be accepted on a rolling basis until April 15, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Karen Epps, U.S. Department of Education, 400 Maryland Avenue SW, Room 250-64, Washington, DC 20202. Telephone: The Department of Education HEERF Call Center at (202) 377-3711. Email: HEERF@ed.gov. Please also visit our HEERF website at: https://www2.ed.gov/about/offices/list/ope/crrsaa.html.

If you use a telecommunications device for the deaf (TDD) or a text telephone (TTY), call the Federal Relay Service (FRS), toll free, at 1-800-877-8339.

SUPPLEMENTARY INFORMATION:

Full Text of Announcement

Background: On December 27, 2020, the President signed into law the Coronavirus Response and Relief Supplemental Appropriations Act, 2021 (CRRSAA) (Pub. L. 116-260). This new law makes available approximately $22.7 billion for institutions of higher education under the Higher Education Emergency Relief Fund (HEERF), with funding devoted to programs previously authorized under the Coronavirus Aid, Relief, and Economic Security Act (CARES) Act (Pub. L. 116-136), as well as funding for certain programs newly authorized under CRRSAA.

With this notice, the Secretary is announcing that proprietary institutions of higher education as defined in section 102(b) of the Higher Education Act of 1965, as amended, 20 U.S.C. 1002(b), may apply for HEERF grant funds under the new CRRSAA section 314(a)(4) program, Proprietary Institution Grant Funds for Students (CFDA 84.425Q). The estimated available funds for this program is approximately $680 million. Allocations for eligible proprietary institutions of higher education will be calculated on the basis of the formula in section 314(a)(1)(A) through (F). Under section 314(d)(7), awards from the Proprietary Institution Grant Funds for Students program may only be used to provide financial aid grants to students (including students exclusively enrolled in distance education), which may be used for any component of the student's cost of attendance or for emergency costs that arise due to coronavirus, such as tuition, food, housing, health care (including mental health care), or child care. In making such financial aid grants to students, grantees must prioritize grants to students with exceptional need, such as students who receive Pell Grants.

Proprietary institutions that did not receive a CARES Act section 18004(a)(1) award but are on the Department's published section 314(a)(1) allocation table for CRRSAA may apply for and receive (a)(4) funds. Pursuant to CRRSAA section 314(f), an institution must apply for funds within 90 days of the publication of this notice.

However, please note that institutions that have not yet complied with the reporting requirements of the CARES Act may receive awards with a restriction on the ability to drawdown those awarded funds (stop payment status) until the institution has satisfied its CARES Act HEERF reporting obligations.

Program Authority: Section 314 of Coronavirus Response and Relief Supplemental Appropriations Act, 2021.

Applicable Regulations: (a) The Education Department General Administrative Regulations in 34 CFR parts 75, 77, 81, 82, 84, 86, 97, 98, and 99. (b) The Office of Management and Budget Guidelines to Agencies on Governmentwide Debarment and Suspension (Nonprocurement) in 2 CFR part 180, as adopted and amended as regulations of the Department in 2 CFR part 3485. (c) Subparts A through E of the Uniform Administrative Requirements, Cost Principles, and Audit Requirements for Federal Awards in 2 CFR part 200, as adopted and amended as regulations of the Department in 2 CFR part 3474.

II. Award Information

Type of Award: Formula grants.

Estimated Available Funds: Approximately $680,914,000 will be used to make awards under this program.

Grant Period: Institutions must expend funds received under this program within 12 months of obligation of the funds by the Department.

III. Eligibility Information

1. Eligible Applicants: Proprietary IHEs, as defined in section 102(b) of the HEA.

2. Cost Sharing or Matching: This program does not require cost sharing or matching.

3. Subgrantees: Subgrantees are not allowed under this program.

IV. Application and Submission Information

1. Application Submission Instructions: Applicants are required to submit their applications using Grants.gov. The Grants.gov Funding Opportunity Numbers are ED-GRANTS-041020-003 for the Student Aid Portion and ED-GRANTS-042120-004 for the Institutional Portion. Applications must be submitted by XXX Date [90 days after publication]. To register to use Grants.gov, please visit their “How to Apply for Grants” web page (https://www.grants.gov/applicants/apply-for-grants.html), or call their Applicant Support helpdesk at 1-800-518-4726.

Each completed application for a section 314(a)(4) program grant must consist of:

• A complete SF-424; and

• A Certification and Agreement (the Proprietary Institution Grant Funds For Students) (Red C&A).

Note: The applicant must submit the correct Certificate and Agreement for the funds requested. The Certificate and Agreement must be completed and include the correct OPE ID and DUNS number of the institution for which you are requesting funds. Each grantee will receive the amount calculated for them and listed in Department's published section 314(a)(4) allocation table.

2. Intergovernmental Review: This program is subject to Executive Order 12372 and the regulations in 34 CFR part 79. However, under 34 CFR 79.8(a), we waive intergovernmental review in order to make timely awards.

3. Funding Restrictions: Specified in each program's Certification and Agreement or Supplemental Agreement.

4. Data Universal Numbering System Number, Taxpayer Identification Number, and System for Award Management: In general, to do business with the Department of Education, you must—

(a) Have a Data Universal Numbering System (DUNS) number and a Taxpayer Identification Number (TIN);

(b) Register both your DUNS number and TIN with the System for Award Management (SAM), the Government's primary registrant database;

(c) Provide your DUNS number and TIN on your SAM application; and

(d) Maintain an active SAM registration with current information while your application is under review by the Department and, if you are awarded a grant, during the project period.

You can obtain a DUNS number from Dun and Bradstreet at the following website: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active. The SAM registration process can take approximately seven business days, but may take upwards of several weeks, depending on the completeness and accuracy of the data you enter into the SAM database. Thus, if you think you might want to apply for Federal financial assistance under a program administered by the Department, please allow sufficient time to obtain and register your DUNS number and TIN. Given the national emergency related to COVID-19, the Department may accept an application without an active SAM registration and may allow registered SAM users whose registrations expire before May 16, 2020, an additional 60 days to update their registration, consistent with the Office of Management and Budget Memo M-20-17. If you are currently registered with SAM, you may not need to make any changes. However, please make certain that the TIN associated with your DUNS number is correct. Also note that you will need to update your registration annually. This may take three or more business days. Information about SAM is available at www.SAM.gov. To further assist you with obtaining and registering your DUNS number and TIN in SAM or updating your existing SAM account, we have prepared a SAM.gov Tip Sheet, which you can find at: www2.ed.gov/fund/grant/apply/sam-faqs.html.

V. Award Administration Information

1. Award Notices: If you receive a grant award under this program, we will send you a Grant Award Notification (GAN), or we may send you an email containing a link to access an electronic version of your GAN.

2. Reporting: Specified in each program's Certification and Agreement or Supplemental Agreement.

VI. Other Information

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Christopher J. McCaghren,
Acting Assistant Secretary for Postsecondary Education.

[FR Doc. 2021-00936 Filed 1-14-21; 8:45 am]

BILLING CODE 4000-01-P